DEPARTMENT OF COMMERCE

International Trade Administration

[A-523-808]

Certain Steel Nails From the Sultanate of Oman: Final Results of Antidumping Duty Administrative Review; 2020-2021

AGENCY: Enforcement and Compliance, International Trade Administration, Department of Commerce.

SUMMARY: The U.S. Department of Commerce (Commerce) determines that certain steel nails from the Sultanate of Oman (Oman) were sold in the United States at less than normal value (NV) during the period of review (POR), July 1, 2020, through June 30, 2021.

DATES: Applicable December 22, 2022.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On July 20, 2022, Commerce published the Preliminary Results of the 2020-2021 administrative review of the antidumping duty order on steel nails from Oman.¹ For a history of events that have occurred since the Preliminary Results, see the Issues and Decision Memorandum.²

¹ See Certain Steel Nails from the Sultanate of Oman: Preliminary Results of Antidumping Duty Administrative Review and Preliminary Determination of No Shipments; 2020-2021, 87 FR 43240 (July 20, 2022) (Preliminary Results), and accompanying Preliminary Decision Memorandum.

² See Memorandum, “Issues and Decision Memorandum for the Final Results of the 2020-2021 Administrative Review of the Antidumping Duty Order on Certain Steel Nails from the Sultanate of Oman,” dated concurrently with, and hereby adopted by, this notice (Issues and Decision Memorandum).

Scope of the Order

The merchandise covered by the antidumping duty order is certain steel nails. For a complete description of the scope of the order, see the Issues and Decision Memorandum.

Analysis of Comments Received

Commerce addressed all issues raised in the case and rebuttal briefs in the Issues and Decision Memorandum. These issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://enforcement.trade.gov/frn/index.html.

Changes Since the Preliminary Results

Based on our analysis of the comments received, we have made no change to the margin applied to Oman Fasteners LLC (Oman Fasteners) in the Preliminary Results. We have assigned the same margin as the total adverse facts available (AFA) rate for these final results.³

³ Id. at Comment 3.

Use of Adverse Facts Available

We continue to find that the application of total AFA, pursuant to sections 776(a) and (b) of the Tariff Act of 1930, as amended (the Act), is warranted in determining Oman Fasteners' dumping margin because it failed to timely submit information regarding its sales to the United States.⁴ Therefore, as in the Preliminary Results, as AFA, we assigned Oman Fasteners a dumping margin of 154.33 percent. See the Issues and Decision Memorandum for further discussion.⁵

⁴ Id. at Comments 1 and 2.

⁵ Id. at Comment 3.

Commerce is not required to corroborate any dumping margin applied in a separate segment of the same proceeding.⁶ Because the 154.33 percent rate was applied in a separate segment of this proceeding, Commerce does not need to corroborate the rate in this review.

⁶ See section 776(c)(2) of the Act.

Rates for Companies Not Selected for Individual Examination

The statute and Commerce's regulations do not address the establishment of a rate to be applied to individual companies not selected for examination when Commerce limits its examination in an administrative review pursuant to section 777A(c)(2) of the Act. Generally, Commerce looks to section 735(c)(5) of the Act, which provides instructions for calculating the all-others rate in an investigation, for guidance when calculating the rate for companies which we did not examine in an administrative review. When the rates for individually examined companies are all zero, de minimis, or based entirely on facts available, section 735(c)(5)(B) of the Act provides that Commerce may use “any reasonable method” to establish the all-others rate. We based the dumping margin entirely on AFA for the sole mandatory respondent, Oman Fasteners. Therefore, we assigned the companies not selected for examination the all-others rate applied in prior segments of this proceeding (i.e., 9.10 percent),⁷ consistent with the guidance in section 735(c)(5)(B) of the Act.

⁷ This rate is derived in the final determination of the underlying investigation in this proceeding. See Certain Steel Nails from the Sultanate of Oman: Final Determination of Sales at Less Than Fair Value, 80 FR 28972 (May 20, 2015) (Steel Nails from Oman Final Determination).

Final Results of Review

Commerce determines that the following weighted-average dumping margins exist for the period July 1, 2020, through June 30, 2021:

Manufacturer/exporter | Weighted- average dumping margin (percent)
Oman Fasteners LLC | ⁸ 154.33
Non-Selected Companies | 9.10
⁸ Based on total AFA. For a full description of the methodology underlying our conclusions regarding the application of AFA, see the Issues and Decision Memorandum.

BILLING CODE 3510-DS-P

Disclosure

Normally, Commerce will disclose the calculations performed in connection with the final results of review to parties to the proceeding in accordance with 19 CFR 351.224(b). However, as there were no margin calculations performed in the instant review, there are no calculations to disclose for the final results of this review.

Assessment Rate

Pursuant to section 751(a)(2)(C) of the Act, Commerce shall determine, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

In accordance with Commerce's “automatic assessment” practice, for entries of subject merchandise that entered the United States during the POR that were produced by Oman Fasteners for which the respondent did not know that its merchandise was destined to the United States, Commerce will instruct CBP to liquidate unreviewed entries at the all-others rate of 9.10 percent,⁹ if there is no rate for the intermediate company(ies) involved in the transaction.¹⁰

⁹ See Steel Nails from Oman Final Determination.

¹⁰ For a full discussion of this practice, see Antidumping and Countervailing Duty Proceedings: Assessment of Antidumping Duties, 68 FR 23954 (May 6, 2003).

Because we are applying total AFA to Oman Fasteners, we will instruct CBP to apply an assessment rate to all entries Oman Fasteners produced and/or exported equal to the dumping margin indicated above in the “Final Results of Review.” Further, the assessment rate for antidumping duties for each of the companies not selected for individual examination will be equal to the weighted-average dumping margin identified above in the “Final Results of Review.”

Cash Deposit Requirements

The following cash deposit requirements will be effective upon publication of the notice of the final results of this administrative review for all shipments of steel nails from Oman entered, or withdrawn from warehouse, for consumption on or after the date of publication of the final results in the Federal Register, as provided by section 751(a)(2)(C) of the Act: (1) for the companies covered by this review, the cash deposit rate will be the rates listed above in the section “Final Results of Review”; (2) for merchandise exported by producers or exporters not covered in this administrative review but covered in a prior segment of the proceeding, the cash deposit rate will continue to be the company-specific rate published in a completed segment for the most recent period of review; (3) if the exporter is not a firm covered in this review, a prior review, or in the original investigation, but the producer is, the cash deposit rate will be the rate established for the most recently completed segment of this proceeding for the producer of the merchandise; and (4) the cash deposit rate for all other producers or exporters will continue to be 9.10 percent, the all-others rate established in the investigation.¹¹ These cash deposit requirements, when imposed, shall remain in effect until further notice.

¹¹ See Investigation Final Determination.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing these final results in accordance with sections 751(a)(1) and 777(i)(1) of the Act, and 19 CFR 351.221(b)(5).

Dated: December 16, 2022.
Lisa W. Wang,
Assistant Secretary for Enforcement and Compliance.

Appendix

List of Topics Discussed in the Issues and Decision Memorandum

I. Summary

II. Background

III. Scope of the Order

IV. Discussion of the Issues

Comment 1: Whether to Accept/Add the Rejected Response to the Record

Comment 2: Whether to Apply Adverse Facts Available (AFA)

Comment 3: Which Rate to Apply as AFA

V. Recommendation

[FR Doc. 2022-27904 Filed 12-21-22; 8:45 am]

BILLING CODE 3510-DS-P